ENVIRONMENTAL PROTECTION AGENCY

[FRL-10000-61-Region 8]

Settlement Agreement for Past Costs: State Painting Site, West Valley City, Utah

AGENCY: Environmental Protection Agency (EPA).

ACTION: Notice of proposed agreement; request for public comment.

SUMMARY: In accordance with the requirements of the Comprehensive Environmental Response, Compensation, and Liability Act of 1980, as amended (”CERCLA”), notice is hereby given of the proposed settlement under CERCLA, between the U.S. Environmental Protection Agency (“EPA”), the Jordan Valley Water Conservancy District (JVWCD), and the Guarantee Company of North America (GCNA) (collectively, “Settling Parties”) to settle liabilities at the State Painting Site in West Valley City, Utah.

For thirty (30) days following the date of publication of this notice, the Agency will receive written comments relating to the agreement. The Agency will consider all comments received and may modify or withdraw its consent to the agreement if comments received disclose facts or considerations that indicate that the agreement is inappropriate, improper, or inadequate.

DATES: Comments must be submitted on or before October 31, 2019.

ADDRESSES: The proposed agreement and additional background information relating to the agreement, as well as the Agency's response to any comments are or will be available for public inspection at the EPA Superfund Record Center, 1595 Wynkoop Street, Denver, Colorado, by appointment.

Comments and requests for a copy of the proposed agreement should be addressed to Julie Nicholson, Enforcement Specialist, Superfund and Emergency Management Division, Environmental Protection Agency—Region 8, Mail Code 8SEM PAC, 1595 Wynkoop Street, Denver, Colorado 80202, (303) 312-6343 and should reference the State Painting Site.

FOR FURTHER INFORMATION CONTACT: Amelia Piggott, Senior Assistant Regional Counsel, Office of Regional Counsel, Environmental Protection Agency—Region 8, Mail Code 80RC LEC, 1595 Wynkoop Street, Denver, Colorado 80202, (303) 312-6410.

SUPPLEMENTARY INFORMATION: The proposed Settlement Agreement requires the Settling Parties to reimburse the EPA for past response costs. The Settling Parties will pay ($257,179.00) within 30 days after the Effective Date of the Proposed Agreement to the EPA. The Settling Parties consent to and will not contest the authority of the United States to enter into the Agreement or to implement or enforce its terms. The Settling Parties recognize that the Agreement has been negotiated in good faith and that the Agreement is entered into without the admission or adjudication of any issue of fact or law.

Dated: September 16, 2019.
Betsy Smidinger,
Division Director, Superfund and Emergency Management Division, U.S. Environmental Protection Agency, Region VIII.

[FR Doc. 2019-21338 Filed 9-30-19; 8:45 am]

BILLING CODE 6560-50-P